DEPARTMENT OF HOMELAND SECURITY

Federal Emergency Management Agency

[Docket ID FEMA-2021-0002; Internal Agency Docket No. FEMA-B-2100]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Adams. | City of Thornton (20-08-0251P). | The Honorable Janifer Kulmann, Mayor, City of Thornton, 9500 Civic Center Drive, Thornton, CO 80229. | City Hall, 9500 Civic Center Drive, Thornton, CO 80229. | https://msc.fema.gov/portal/advanceSearch. | Mar. 26, 2021 | 080007
Adams. | Unincorporated areas of Adams County (20-08-0251P). | The Honorable Emma Pinter, Chair, Adams County Board of Commissioners, 4430 South Adams County Parkway, Suite C5000A, Brighton, CO 80601. | Adams County Community and Economic Development Department, 4430 South Adams County Parkway, Suite W2000, Brighton, CO 80601. | https://msc.fema.gov/portal/advanceSearch. | Mar. 26, 2021 | 080001
Douglas. | Town of Castle Rock (20-08-0462P). | The Honorable Jason Gray, Mayor, Town of Castle Rock, 100 North Wilcox Street, Castle Rock, CO 80104. | Water Department, 175 Kellog Court, Castle Rock, CO 80109. | https://msc.fema.gov/portal/advanceSearch. | Mar. 12, 2021 | 080050
Douglas. | Unincorporated areas of Douglas County (20-08-0462P). | Mr. Doug DeBord, Douglas County, Manager, 100 3rd Street, Castle Rock, CO 80104. | Department of Public Works, Engineering Department, 100 3rd Street, Castle Rock, CO 80104. | https://msc.fema.gov/portal/advanceSearch. | Mar. 12, 2021 | 080049
Florida:
Collier. | City of Naples (20-04-5222P). | The Honorable Teresa Heitmann, Mayor, City of Naples, 735 8th Street South, 2nd Floor, Naples, FL 34102. | Building Department, 295 Riverside Circle, Naples, FL 34102. | https://msc.fema.gov/portal/advanceSearch. | Mar. 8, 2021 | 125130
Collier. | City of Naples (20-04-5396P). | The Honorable Teresa Heitmann, Mayor, City of Naples, 735 8th Street South, 2nd Floor, Naples, FL 34102. | Building Department, 295 Riverside Circle, Naples, FL 34102. | https://msc.fema.gov/portal/advanceSearch. | Mar. 22, 2021 | 125130
Hillsborough. | Unincorporated areas of Hillsborough County (20-04-1456P). | Ms. Bonnie M. Wise, Hillsborough County, Administrator, 601 East Kennedy Boulevard, 26th Floor, Tampa, FL 33602. | Hillsborough County Center, 601 East Kennedy Boulevard, 22nd Floor, Tampa, FL 33602. | https://msc.fema.gov/portal/advanceSearch. | Mar. 18, 2021 | 120112
Hillsborough. | Unincorporated areas of Hillsborough County (20-04-4569P). | Ms. Bonnie M. Wise, Hillsborough County, Administrator, 601 East Kennedy Boulevard, 26th Floor, Tampa, FL 33602. | Hillsborough County Center, 601 East Kennedy Boulevard, 22nd Floor, Tampa, FL 33602. | https://msc.fema.gov/portal/advanceSearch. | Apr. 1, 2021 | 120112
Miami-Dade. | City of Miami (20-04-6068P). | The Honorable Francis X. Suarez, Mayor, City of Miami, 3500 Pan American Drive, Miami, FL 33133. | Building Department, 444 Southwest 2nd Avenue, 4th Floor, Miami, FL 33130. | https://msc.fema.gov/portal/advanceSearch. | Mar. 22, 2021 | 120650
Monroe. | City of Marathon (21-04-0493P). | The Honorable Steve Cook, Mayor, City of Marathon, 9805 Overseas Highway, Marathon, FL 33050. | Planning Department, 9805 Overseas Highway, Marathon, FL 33050. | https://msc.fema.gov/portal/advanceSearch. | Apr. 12, 2021 | 120681
Monroe. | Village of Islamorada (20-04-6217P). | The Honorable Mike Forster, Mayor, Village of Islamorada, 86800 Overseas Highway, Islamorada, FL 33036. | Building Department, 86800 Overseas Highway, Islamorada, FL 33036. | https://msc.fema.gov/portal/advanceSearch. | Apr. 1, 2021 | 120424
Palm Beach. | Town of Jupiter (20-04-3713P). | Mr. Matt Benoit, Manager, Town of Jupiter, 210 Military Trail, Jupiter, FL 33458. | Building and Stormwater Utility Department, 210 Military Trail, Jupiter, FL 33458. | https://msc.fema.gov/portal/advanceSearch. | Mar. 24, 2021 | 125119
Palm Beach. | Village of Royal Palm Beach (20-04-0312P). | The Honorable Fred Pinto, Mayor, Village of Royal Palm Beach, 1050 Royal Palm Beach Boulevard, Royal Palm Beach, FL 33411. | Village Hall, 1050 Royal Palm Beach Boulevard, Royal Palm Beach, FL 33411. | https://msc.fema.gov/portal/advanceSearch. | Mar. 23, 2021 | 120225
Pinellas. | Town of Belleair (20-04-5570P). | Mr. J.P. Murphy, Manager, Town of Belleair, 901 Ponce de Leon Boulevard, Belleair, FL 33756. | Building Department, 901 Ponce de Leon Boulevard, Belleair, FL 33756. | https://msc.fema.gov/portal/advanceSearch. | Apr. 12, 2021 | 125088
New Mexico:
Taos. | Town of Taos (20-06-1193P). | The Honorable Daniel R. Barrone, Mayor, Town of Taos, 400 Camino De La Placita, Taos, NM 87571. | Planning Department, 400 Camino De La Placita, Taos, NM 87571. | https://msc.fema.gov/portal/advanceSearch. | Apr. 9, 2021 | 350080
Taos. | Unincorporated areas of Taos County (20-06-1193P). | Mr. Brent Jaramillo, Taos County Manager, 105 Albright Street, Suite G, Taos, NM 87571. | Taos County Planning Department, 105 Albright Street, Taos, NM 87571. | https://msc.fema.gov/portal/advanceSearch. | Apr. 9, 2021 | 350078
Pennsylvania:
Allegheny. | Township of Moon (20-03-0739P). | Ms. Dawn Lane, Manager, Township of Moon, 1000 Beaver Grade Road, Moon Township, PA 15108. | Township Hall, 1000 Beaver Grade Road, Moon Township, PA 15108. | https://msc.fema.gov/portal/advanceSearch. | Mar. 12, 2021 | 421082
Dauphin. | Borough of Middletown (20-03-1407P). | The Honorable Ian Reddinger, President, Borough of Middletown Council, 60 West Emaus Street, Middletown, PA 17057. | Borough Hall, 60 West Emaus Street, Middletown, PA 17057. | https://msc.fema.gov/portal/advanceSearch. | Mar. 26, 2021 | 420388
Rhode Island: Washington. | Town of South Kingstown (20-01-1104P). | The Honorable Abel G. Collins, President, Town of South Kingstown Council, 180 High Street, Wakefield, RI 02879. | Building Inspection and Zoning Department, 180 High Street, Wakefield, RI 02879. | https://msc.fema.gov/portal/advanceSearch. | Mar. 19, 2021 | 445407
Texas:
Bexar. | City of San Antonio (20-06-1037P). | The Honorable Ron Nirenberg, Mayor, City of San Antonio, P.O. Box 839966, San Antonio, TX 78283. | Transportation and Capital Improvements Department, Stormwater Division, 114 West Commerce, 7th Floor, San Antonio, TX 78205. | https://msc.fema.gov/portal/advanceSearch. | Feb. 16, 2021 | 480045
Bexar. | Unincorporated areas of Bexar County (20-06-1037P). | The Honorable Nelson W. Wolff, Bexar County, Judge, 101 West Nueva Street, 10th Floor, San Antonio, TX 78205. | Bexar County Public Works Department, 1948 Probandt Street, San Antonio, TX 78214. | https://msc.fema.gov/portal/advanceSearch. | Feb. 16, 2021 | 480035
Collin. | City of Wylie (20-06-2188P). | The Honorable Eric Hogue, Mayor, City of Wylie, 300 Country Club Road, Building 100, Wylie, TX 75098. | City Hall, 300 Country Club Road, Building 100, Wylie, TX 75098. | https://msc.fema.gov/portal/advanceSearch. | Apr. 1, 2021 | 480759
Dallas. | City of Carrollton (20-06-2233P). | Ms. Erin Rinehart, Manager, City of Carrollton, 1945 East Jackson Road, Carrollton, TX 75006. | Engineering Department, 1945 East Jackson Road, Carrollton, TX 75006. | https://msc.fema.gov/portal/advanceSearch. | Mar. 22, 2021 | 480167
Dallas. | City of Coppell (20-06-1839P). | The Honorable Karen Hunt, Mayor, City of Coppell, P.O. Box 9478, Coppell, TX 75019. | Department of Public Works, 265 East Parkway Boulevard, Coppell, TX 75019. | https://msc.fema.gov/portal/advanceSearch. | Feb. 22, 2021 | 480170
Dallas. | City of Dallas (20-06-1839P). | The Honorable Eric Johnson, Mayor, City of Dallas, 1500 Marilla Street, Suite 5EN, Dallas, TX 75201. | Floodplain and Drainage Management Department, 320 East Jefferson Boulevard, Room 312, Dallas, TX 75203. | https://msc.fema.gov/portal/advanceSearch. | Feb. 22, 2021 | 480171
Dallas. | City of Dallas (20-06-3047P). | The Honorable Eric Johnson, Mayor, City of Dallas, 1500 Marilla Street, Suite 5EN, Dallas, TX 75201. | Floodplain and Drainage Management Department, 320 East Jefferson Boulevard, Room 312, Dallas, TX 75203. | https://msc.fema.gov/portal/advanceSearch. | Mar. 1, 2021 | 480171
Dallas. | City of Irving (20-06-1839P). | The Honorable Rick Stopfer, Mayor, City of Irving, 825 West Irving Boulevard, Irving, TX 75060. | Engineering Department, 825 West Irving Boulevard, Irving, TX 75060. | https://msc.fema.gov/portal/advanceSearch. | Feb. 22, 2021 | 480180
Tarrant. | City of Arlington (20-06-2033P). | The Honorable Jeff Williams, Mayor, City of Arlington, P.O. Box 90231, Arlington, TX 76004. | Public Works and Transportation Department, 101 West Abram Street, Arlington, TX 76010. | https://msc.fema.gov/portal/advanceSearch. | Mar. 22, 2021 | 485454
Tarrant. | City of Arlington (20-06-2035P). | The Honorable Jeff Williams, Mayor, City of Arlington, P.O. Box 90231, Arlington, TX 76004. | Public Works and Transportation Department, 101 West Abram Street, Arlington, TX 76010. | https://msc.fema.gov/portal/advanceSearch. | Apr. 1, 2021 | 485454
Tarrant. | City of Arlington (20-06-2038P). | The Honorable Jeff Williams, Mayor, City of Arlington, P.O. Box 90231, Arlington, TX 76004. | Public Works and Transportation Department, 101 West Abram Street, Arlington, TX 76010. | https://msc.fema.gov/portal/advanceSearch. | Mar. 22, 2021 | 485454
Tarrant. | City of Arlington (20-06-2039P). | The Honorable Jeff Williams, Mayor, City of Arlington, P.O. Box 90231, Arlington, TX 76004. | Public Works and Transportation Department, 101 West Abram Street, Arlington, TX 76010. | https://msc.fema.gov/portal/advanceSearch. | Mar. 25, 2021 | 485454
Travis. | City of Lakeway (20-06-3378P). | The Honorable Sandy Cox, Mayor, City of Lakeway, 1102 Lohmans Crossing Road, Lakeway, TX 78734. | City Hall, 1102 Lohmans Crossing Road, Lakeway, TX 78734. | https://msc.fema.gov/portal/advanceSearch. | Mar. 26, 2021 | 481303
Williamson. | Unincorporated areas of Williamson County, (20-06-2228P). | The Honorable Bill Gravell, Jr., Williamson County, Judge, 710 South Main Street, Suite 101, Georgetown, TX 78626. | Williamson County, Engineering Department, 3151 Southeast Inner Loop, Georgetown, TX 78626. | https://msc.fema.gov/portal/advanceSearch. | Apr. 12, 2021 | 481079
Vermont: Windsor. | Town of Springfield (20-01-0533P). | Mr. Steve Neratko, Town of Springfield, Manager, 96 Main Street, Springfield, VT 05156. | Town Hall, 96 Main Street, Springfield, VT 05156. | https://msc.fema.gov/portal/advanceSearch. | Apr. 14, 2021 | 500154
Virginia: Loudoun. | Unincorporated areas of Loudoun County (20-03-0990P). | Mr. Tim Hemstreet, Loudoun County, Administrator, P.O. Box 7000, Leesburg, VA 20177. | Loudoun County, Office of Mapping and Geographic Information, 1 Harrison Street Southeast, Leesburg, VA 20175. | https://msc.fema.gov/portal/advanceSearch. | Mar. 29, 2021 | 510090
Washington DC | District of Columbia (20-03-1674P). | The Honorable Muriel Bowser, Mayor, District of Columbia, 1350 Pennsylvania Avenue, Northwest, Washington, DC 20004. | Department of Energy and Environment, 1200 1st Street Northeast, Suite 500, Washington, DC 20002. | https://msc.fema.gov/portal/advanceSearch. | Apr. 19, 2021 | 110001
West Virginia:
Greenbrier. | City of White Sulphur Springs (20-03-1111P). | The Honorable Bruce Bowling, Mayor, City of White Sulphur Springs, 589 Main Street West, White Sulphur Springs, WV 24986. | City Hall, 589 Main Street West, White Sulphur Springs, WV 24986. | https://msc.fema.gov/portal/advanceSearch. | Apr. 12, 2021 | 540045
Greenbrier. | Unincorporated areas of Greenbrier County (20-03-1111P). | The Honorable Lowell Rose, President, Greenbrier County, Commission, 912 Court Street North, Lewisburg, WV 24901. | Greenbrier County, Planning, Department, 912 Court Street North, Lewisburg, WV 24986. | https://msc.fema.gov/portal/advanceSearch. | Apr. 12, 2021 | 540040

[FR Doc. 2021-01105 Filed 1-15-21; 8:45 am]

BILLING CODE 9110-12-P